DEPARTMENT OF HEALTH AND HUMAN SERVICES

Centers for Disease Control and Prevention

[30DAY-06-02]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer, Human Resources and Housing Branch, New Executive Office Building, Room 10235, Washington, DC 20503. Written comments should be received within 30 days of this notice.

Proposed Project: National Survey of Endoscopic Capacity (SECAP)—New—National Center for Chronic Disease Prevention and Health Promotion (NCCDPHP), Centers for Disease Control and Prevention (CDC), proposes to conduct a study to provide a national assessment of the current capacity to conduct colorectal cancer (CRC) screening and follow-up examinations for average risk persons aged 50 and older. Colorectal cancer is the second leading cause of cancer-related deaths in the United States. While there is strong scientific evidence that screening for CRC reduces incidence and mortality from this disease, rates of use of screening tests are currently low. Efforts to promote widespread screening for CRC are intensifying among local, state, and federal health agencies and professional organizations nationwide. However, limited information is available regarding the number of health care personnel currently trained and available to perform screening and follow-up examinations.

The proposed study will be conducted through the implementation of a survey which will be mailed to a random sample of 1,800 providers known to possess flexible sigmoidoscopes and colonoscopes, based upon lists provided by major endoscopic equipment manufacturers. The sampling frame will be designed to include providers from all regions of the country and all physician specialists who may be screening for CRC. The survey will provide information on the types of health care providers who are performing CRC screening and follow-up examinations, the equipment currently being used for screening and follow-up examinations, and current reimbursement rates for these tests. The results of the analysis will be used to (1) Identify deficits in the medical infrastructure, (2) guide the development of training initiatives and educational programs for health care providers, and (3) provide critical baseline information for local, state and federal policy makers for the planning of national initiatives to increase colorectal cancer screening.

The total annualize burden for this data collection is 880 hours.

Respondents | Number of respondents | Responses per respondent | Hours per response
Screening Phone Call | 1,800 | 1 | 5/60
Mailed Survey | 1,750 | 1 | 25/60

Dated: December 5, 2001.
Nancy E. Cheal,
Acting Associate Director for Policy, Planning, and Evaluation, Centers for Disease Control and Prevention.

[FR Doc. 01-30762 Filed 12-12-01; 8:45 am]

BILLING CODE 4163-18-P